DEPARTMENT OF EDUCATION

RIN 1820-ZA41

The Individuals With Disabilities Education Act Multi-Year Individualized Education Program Demonstration Program

AGENCY: Office of Special Education and Rehabilitative Services, Department of Education.

ACTION: Notice of proposed requirements and selection criteria.

SUMMARY: The Assistant Secretary for Special Education and Rehabilitative Services proposes requirements and selection criteria for a competition in which the Department will select up to 15 States to participate in a pilot program, the Multi-Year Individualized Education Program (IEP) Demonstration Program (Multi-Year IEP Program). State proposals approved under this program would create opportunities for participating local educational agencies (LEAs) to improve long-term planning for children with disabilities through the development and use of comprehensive multi-year IEPs. Additionally, the proposed requirements and selection criteria focus on an identified national need to reduce the paperwork burden associated with IEPs while preserving students' civil rights and promoting academic achievement.

The requirements and selection criteria proposed in this notice will be used for a single, one-time-only competition under this program.

DATES: We must receive your comments on or before March 6, 2006.

ADDRESSES: Address all comments about this notice to Troy Justesen, U.S. Department of Education, 400 Maryland Avenue, SW., Potomac Center Plaza, room 5126, Washington, DC 20202-2641. If you prefer to send your comments through the Internet, you may address them to us at the following address: comments@ed.gov.

You must include the term “Multi-Year IEP Public Comment” in the subject line of your electronic message. Please submit your comments only one time, in order to ensure that we do not receive duplicate copies.

FOR FURTHER INFORMATION CONTACT: Troy R. Justesen. Telephone: 202-245-7468.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding the proposed requirements and selection criteria. To ensure that your comments have maximum effect in developing the notice of final requirements and selection criteria, we urge you to identify clearly the specific proposed requirement or selection criterion that each comment addresses.

We invite you to assist us in complying with the specific requirements of Executive Order 12866 and its overall requirement of reducing regulatory burden that might result from the proposed requirements and selection criteria. Please let us know of any further opportunities we should take to reduce potential costs or increase potential benefits while preserving the effective and efficient administration of the program.

During and after the comment period, you may inspect all public comments about this notice in room 5126, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, please contact the person listed under FOR FURTHER INFORMATION CONTACT.

Statutory Background of the Multi-Year IEP Program

On December 3, 2004, President Bush signed into law Public Law 108-446, 118 Stat. 2647, the Individuals with Disabilities Education Improvement Act of 2004, reauthorizing and amending the Individuals with Disabilities Education Act (Act). This new law reflects the importance of strengthening our nation's efforts to ensure every child with a disability has available a free appropriate public education (FAPE) that is (1) of high quality and (2) designed to achieve the high standards established in the No Child Left Behind Act of 2001.

The Multi-Year IEP Program is one of two demonstration programs authorized under the new law that is designed to increase the resources and time available for classroom instruction and other activities focused on improving educational and functional results of children with disabilities. This program is also intended to enhance long-term educational planning and collaboration among IEP team members.

Through the Multi-Year IEP Program, established under section 614(d)(5) of the Act, the Secretary may approve no more than 15 proposals from States, including Puerto Rico, the District of Columbia, and outlying areas (States) to offer parents, in participating LEAs, the option of comprehensive, multi-year IEPs to improve long-term planning, which would cover natural transition points for participating children. Under section 614(d)(5)(C) of the Act, the term “natural transition points” means those periods that are close in time to the transition of a child with a disability from preschool to elementary grades, from elementary grades to middle or junior high school grades, from middle or junior high school grades to secondary school grades, and from secondary school grades to post-secondary activities, but in no case a period longer than three years (for the full text of section 614(d)(5) of the Act, go to: http://www.gpoaccess.gov/plaws/index.html).

These multi-year IEPs are intended to focus parents and teachers on long-term planning for student achievement, reduce the paperwork teachers must complete, and increase teacher instructional time. Under the Multi-Year IEP Program, multi-year IEPs cannot exceed three years and their development is optional for parents, requiring informed parental consent.

Under the Act, an IEP must contain measurable annual goals for a student's progress, and must be reviewed at least annually by the IEP team. Many parents have indicated that they would like the opportunity to engage their LEA in long-term planning for their child, rather than focusing on only one year at a time. A multi-year IEP would include long-term goals for academic achievement and functional performance, coinciding with natural transition points, and the progression of annual goals leading to achievement of the long-term goals.

Statutory Requirements for Multi-Year IEP Program

The Act establishes the following requirements that States must follow in developing and implementing their Multi-Year IEP Program proposals:

1. A State applying for approval under this program must propose to conduct demonstrations using a comprehensive multi-year IEP (not to exceed three years) that coincides with natural transition points for each participating child.

2. Except as specifically provided for under this program, all of the Act's requirements regarding provision of FAPE to children with disabilities (including requirements related to the content, development, review, and revision of the IEP under section 614(d) of the Act and procedural safeguards under section 615 of the Act) apply to participants in this Multi-Year IEP Program.

3. A State submitting a proposal under the Multi-Year IEP Program must include the following material in its proposal:

(a) Assurances that if an LEA offers parents the option of a multi-year IEP, development of the multi-year IEP is voluntary.

(b) Assurances that the LEA will obtain informed consent from parents before a comprehensive multi-year IEP is developed for their child.

(c) A list of all required elements for a comprehensive multi-year IEP, including:

(i) Measurable long-term goals not to exceed three years, coinciding with natural transition points for the child, that will enable the child to be involved in and make progress in the general education curriculum and that will meet the child's other needs that result from the child's disability.

(ii) Measurable annual goals for determining progress toward meeting the long-term goals, coinciding with natural transition points for the child, that will enable the child to be involved in and make progress in the general education curriculum and that will meet the child's other needs that result from the child's disability.

(d) A description of the process for the review and revision of a multi-year IEP, including:

(i) A review by the IEP team of the child's multi-year IEP at each of the child's natural transition points.

(ii) In years other than a child's natural transition points, an annual review of the child's IEP to determine the child's current levels of progress and whether the annual goals for the child are being achieved, and a requirement to amend the IEP, as appropriate, to enable the child to continue to meet the measurable goals set forth in the IEP.

(iii) If the IEP team determines, on the basis of a review, that the child is not making sufficient progress toward the goals described in the multi-year IEP, a requirement that within 30 calendar days of the IEP team's determination, the LEA shall ensure that the IEP team carries out a more thorough review of the IEP in accordance with section 614(d)(4) of the Act.

(iv) A requirement that, at the request of the parent, the IEP team will conduct an immediate review of the child's multi-year IEP, rather than at the child's next transition point or annual review.

Background for Proposed Requirements and Selection Criteria

Although the Act sets out the previously-described requirements, it does not provide for other requirements that are necessary for implementation of this program. For instance, the Act does not address the relationship among the content requirements of an IEP, the new content requirements of the multi-year IEP, and informed parental consent requirements. The Act also does not establish selection criteria for the Department to use to evaluate State proposals. Thus, in this notice, we are proposing additional Multi-Year IEP Program requirements to address these and other implementation issues and selection criteria that we will use to evaluate State proposals.

Under section 614(d)(5)(B) of the Act, the Department is required to report on the effectiveness of the Multi-Year IEP Program. In this notice, we also are proposing requirements with which States must comply that will allow the Department to evaluate the effectiveness of this program. To accomplish this, the Institute of Education Sciences (Institute) will conduct an evaluation using a quasi-experimental design that collects data on the following outcomes: Educational and functional results for students with disabilities, time and resource expenditures by IEP team members and teachers, quality of long-term education plans incorporated in IEPs, and degree of collaboration among IEP members. These outcomes will be compared for students whose parents consent to their child's participation in a multi-year IEP and students who are matched on type of disability, age, prior educational outcomes, and to the extent feasible, the nature of the special education services, who do not participate in the multi-year IEP. Specifics of the design will be confirmed during discussions with the evaluator, a technical workgroup, and the participating States during the first several months of the study.

Participating States will play a crucial supportive role in this evaluation. They will, at minimum, assist in developing the specifics of the evaluation plan, assure that districts participating in the multi-year IEP will participate in the evaluation, supply data relevant to the outcomes being measured from State data sources (e.g., student achievement and functional outcome data, complaint numbers), provide background information on relevant State policies and practices, provide access to current student IEPs during Year 1 of the evaluation, and complete questionnaires and participate in interviews. Data collection and analysis will be the responsibility of the Institute through its contractor.

States can expect to allocate resources for this purpose at a minimum during Year 1 to assist with planning the details of the evaluation, ensuring the participation of involved districts, providing access to relevant State records, and completing questionnaires or participating in interviews. Over the course of the evaluation, participating States will receive an annual incentive payment (described in the next section) that will offset the cost of participating in the evaluation.

We will announce the final requirements and selection criteria in a notice in the Federal Register. We will determine the final requirements and selection criteria after considering responses to this notice and other information available to the Department.

Note: An application and award for the Multi-Year IEP Program does not preclude an application and award for the Paperwork Waiver Demonstration Program, which is the subject of a separate notice of proposed requirements and selection criteria.

Note: This notice does not solicit applications. We will invite applications through a notice in the Federal Register at a later date.

Proposed Additional Requirements for Multi-Year IEP Program

The Secretary proposes the following additional requirements for the Multi-Year IEP Program:

1. The Secretary will not grant a State approval to participate in this program if the Secretary determines that the State currently meets the conditions under section 616(d)(2)(A)(iii) or (iv) of the Act relative to its implementation of Part B of the Act.

2. The Secretary may terminate any Multi-Year IEP Program project if the Secretary determines that the State (a) Needs assistance under section 616(d)(2)(A)(ii) of the Act and the State's participation in this program has contributed to or caused the need for assistance; (b) needs intervention under 616(d)(2)(A)(iii) of the Act or needs substantial intervention under section 616(d)(2)(A)(iv) of the Act; or (c) failed to appropriately implement its project.

3. States submitting a proposal under the Multi-Year IEP Program must include the following material in their proposal:

(a) Assurances that before an LEA requests a parent's informed consent to the development of a multi-year IEP, the LEA will inform the parent in writing of (i) any differences between the requirements relating to the content, development, review, and revision of IEPs under section 614(d) of the Act and the State's requirements relating to the content, development, review, and revision of IEPs under the State's approved Multi-Year IEP Program proposal; and (ii) the parent's right to revoke consent and the LEA's responsibility to conduct, within 30 calendar days after revocation by the parent, an IEP meeting to develop an IEP that meets the requirements of section 614(d)(1)(A) of the Act.

(b) A description of how the State obtained input from school and district personnel and parents in developing the list of required elements for each multi-year IEP and the description of the process for the review and revision of each multi-year IEP.

(c) A description of how the State obtained broad stakeholder input on its Multi-Year IEP Program proposal.

(d) Assurances that the State will cooperate fully, if selected, in a national evaluation of the Multi-Year IEP Program. Cooperation includes devoting a minimum of 4 months between the State's award and subsequent implementation of this program to conduct joint planning with the evaluator. It also includes participation by the State educational agency (SEA) in the following evaluation activities:

(i) Providing to the evaluator the list of required elements for the multi-year IEP and the description of the process for the review and revision of the multi-year IEP submitted as part of the State's application for this program. Ensuring that the evaluator will have access to the most recent IEP created before participating in the Multi-Year IEP Program and the multi-year IEP(s) created during the project for each participating child (multi-year IEP participants and matched participants who not not have a multi-year IEP), together with a general description of the process for completing both versions of the IEP.

(ii) Recruiting districts or schools to participate in the evaluation (as established in the evaluation design) and ensuring their continued cooperation with the evaluation. Providing a list of districts and schools that have been recruited and have agreed to implement the proposed Multi-Year IEP Program, allow data collection to occur, and cooperate fully with the evaluation. For each participating school or district providing basic demographic information such as student enrollment, district wealth and ethnicity breakdowns, the number of children with disabilities by category, and the number or type of personnel, as requested by the evaluator.

(iii) Serving in an advisory capacity to assist the evaluator in identifying valid and reliable data sources and improving the design of data collection instruments and methods.

(iv) Providing to the evaluator an inventory of existing State-level data relevant to the evaluation questions or consistent with the identified data sources. Supplying requested State-level data in accordance with the timelines specified in the evaluation design.

(v) If necessary to the final design of the study, providing assistance to the evaluator on the collection of data from parents, including obtaining informed consent, for parents to participate in interviews and respond to surveys and questionnaires.

(vi) Designating a coordinator for the project who will monitor the implementation of the project and work with the evaluator. This coordinator also will serve as the primary point of contact for the Office of Special Education Programs (OSEP) project officer.

4. Each State receiving approval to participate in the Multi-Year IEP Program will be awarded an annual incentive payment of $10,000 to be used exclusively to support program-related evaluation activities, including one trip to Washington, DC, annually to meet with the project officer and the evaluator. Each participating State will receive an additional incentive payment of $15,000 annually from the contractor to support evaluation activities in the State. Incentive payments may also be provided to participating districts to offset the costs of their participation in the evaluation of the Multi-Year IEP Program.

Proposed Selection Criteria

We propose that the following selection criteria be used to evaluate State proposals submitted under this program. These particular criteria were selected because they address the statutory requirements and proposed program requirements and permit applicants to propose a distinctive approach to addressing these requirements.

Note: The maximum score for all of these criteria will be 100 points. We will inform applicants of the points or weights assigned to each criterion and sub-criterion in a notice published in the Federal Register inviting States to submit applications for this program.

1. Significance. The Secretary considers the significance of the proposed project. In determining the significance of the proposed project, the Secretary considers the following factors:

(a) The extent to which the proposed project involves the development or demonstration of promising new strategies that build on, or are alternatives to, existing strategies.

(b) The likelihood that the proposed project will result in improvements in the IEP process, especially long-term planning for children with disabilities.

2. Quality of the project design. The Secretary considers the quality of the design of the proposed project. In determining the quality of the design of the proposed project, the Secretary considers the following factors:

(a) The extent to which the goals, objectives, and outcomes to be achieved by the proposed project are clearly specified, measurable, and address active participation in the program evaluation.

(b) The extent to which the design of the proposed project will improve long-term planning and address the need to reduce the paperwork burden associated with IEPs.

(c) The extent to which the proposed project encourages consumer involvement, including parental involvement.

3. Quality of the management plan. The Secretary considers the quality of the management plan for the proposed project. In determining the quality of the management plan for the proposed project, the Secretary considers the following factors:

(a) The adequacy of procedures for ensuring feedback and continuous improvement in the operation of the proposed project.

(b) The extent to which the applicant has devoted sufficient resources to the evaluation of the Multi-Year IEP Program.

(c) How the applicant will ensure that a diversity of perspectives are brought to bear in the operation of the proposed project, including those of parents, teachers, related services providers, administrators, or others, as appropriate.

Executive Order 12866

This notice of proposed requirements and selection criteria has been reviewed in accordance with Executive Order 12866. Under the terms of the order, we have assessed the potential costs and benefits of this regulatory action.

The potential costs associated with this regulatory action are those resulting from statutory requirements and those we have determined as necessary for administering this program effectively and efficiently.

In assessing the potential costs and benefits—both quantitative and qualitative—of the actions proposed in this notice, we have determined that the benefits of the proposed requirements and selection criteria justify the costs.

We have also determined that this regulatory action does not unduly interfere with State, local, and tribal governments in the exercise of their governmental functions.

Intergovernmental Review

This program is not subject to Executive Order 12372 and the regulations in 34 CFR part 79.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1414.

Dated: December 14, 2005.
John H. Hager,
Assistant Secretary for Special Education and Rehabilitative Services.

[FR Doc. E5-7506 Filed 12-16-05; 8:45 am]

BILLING CODE 4000-01-P